DEPARTMENT OF THE INTERIOR

National Park Service

Rock Creek National Park; Draft Environmental Assessment for Fort Reno Athletic Field Construction and Renovation at Fort Reno Park, Washington, DC

ACTION: Notice of availability of environmental assessment.

SUMMARY: Pursuant to the Council of Environmental Quality regulations and National Park Service policy, this notice announces the availability of a draft environmental assessment (EA) for Athletic Field Construction and Renovation at Fort Reno Park in Washington, DC.

DATES: There will be a 30-day public review for comment on this document. Comments on the draft EA should be received on or before May 21, 2001.

ADDRESSES: Comments on the EA should be submitted to: Adrienne Coleman, Superintendent, Rock Creek National Park, 3545 Williamsburg Lane NW., Washington, DC 20008. Copies of the EA will be available at the following locations: Klingle Mansion, Rock Creek Park Headquarters, 3545 Williamsburg Lane, NW., Washington, DC 20008; Tenley-Friendship Branch Library, 4450 Wisconsin Ave., NW., Washington, DC, 20016; and Rock Creek Nature Center, 5001 Glover Road, NW., Washington, DC.

FOR FURTHER INFORMATION CONTACT: Adrienne Coleman, Superintendent, Rock Creek National Park, 3545 Williamsburg Lane, NW., Washington, DC 20008; phone number (202) 282-1063. A limited number of copies of the draft EA are available on request.

SUPPLEMENTARY INFORMATION: The EA on the proposed athletic field construction and renovation at Fort Reno Park describes the proposed design concepts for the proposed work, and analyzes pertinent environmental, archeological, cultural and park use impacts of its establishment and construction and possible mitigation measures for the identified impacts.

The Draft Environmental Assessment analyzes (4) alternatives for the proposed athletic field construction and renovation at Fort Reno Park located in Rock Creek National Park. The first Alternative is no-action, the second is improving the existing soccer/baseball field and provides for an additional soccer/baseball field to the east of the existing field. Alternative (3) improves the existing soccer/baseball field and provides construction of a combination soccer/baseball field on the west side of the park, between Belt Road and the Reno Reservoir. The fourth alternative would improve the existing soccer/baseball field and maximizes the potential usage of the Park for organized sports activities by providing both of the proposed east and west located athletic fields proposed in Alternatives two and three.

The action alternatives would potentially involve a Phase Two archeological study of the area to preserve archeological resources. The cost of the study is estimated at $75,000.

The Draft Environmental Assessment evaluates the environmental and cultural consequences of the alternatives on visitor experience, archeological and historical resources, impacts on local communities, landowners, and natural ecosystems.

Dated: April 3, 2001.
Adrienne Coleman,
Superintendent, Rock Creek National Park.

[FR Doc. 01-9757 Filed 4-19-01; 8:45 am]

BILLING CODE 4310-70-M